DEPARTMENT OF STATE

[Public Notice 5608]

30-Day Notice of Proposed Information Collection: DS-1648, Application for A, G, or NATO Visa, OMB No. 1405-0100

ACTION: Notice of request for public comment and submission to OMB of proposed collection of information.

SUMMARY: The Department of State has submitted the following information collection request to the Office of Management and Budget (OMB) for approval in accordance with the Paperwork Reduction Act of 1995.

• Title of Information Collection: Application for A, G, or NATO Visa.

• OMB Control Number: 1405-0100.

• Type of Request: Extension of a Currently Approved Collection.

• Originating Office: Bureau of Consular Affairs, Office of Visa Services.

• Form Number: DS-1648.

• Respondents: All applicants for A, G, or NATO visas reauthorizations.

• Estimated Number of Respondents: 20,000.

• Estimated Number of Responses: 20,000.

• Average Hours Per Response: 30 minutes.

• Total Estimated Burden: 10,000 hours.

• Frequency: Once per application.

• Obligation to Respond: Required to obtain benefit.

DATES: Submit comments to the Office of Management and Budget (OMB) for up to 30 days from November 7, 2006.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974

FOR FURTHER INFORMATION CONTACT: Direct requests for additional information regarding the collection listed in this notice, including requests for copies of the proposed information collection and supporting documents, to Andrea Lage of the Office of Visa Services, U.S. Department of State, 2401 E Street, NW. L-603, Washington, DC 20522, who may be reached at (202) 663-1399 or lageab@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond.

Abstract of Proposed Collection

The Department of State uses Form DS-1648 to elicit information necessary to ascertain the applicability of the legal requirements for applicants for a renewal of A, G, or NATO visas. The information requested is limited to that which is necessary to determine the eligibility of applicants who seek renewal of their visas. An estimated 20,000 renewal applications are filed each year.

Methodology

Applicants complete this form using an online application available on the Department's Web site, http://www.travel.state.gov. The applicant then prints the application and a bar code is printed at the bottom of the form. The bar code is an electronic capture of the information provided by the applicant. The application is then submitted by mail to the Department. The Department scans the bar code on the application to retrieve the information electronically. Applicants are not allowed to submit handwritten or typed forms with printed bar codes.

Dated: October 18, 2006.
Stephen A. Edson,
Deputy Assistant Secretary, Bureau of Consular Affairs, Department of State.

[FR Doc. E6-18742 Filed 11-6-06; 8:45 am]

BILLING CODE 4710-06-P